DEPARTMENT OF THE INTERIOR

Fish and Wildlife Service

50 CFR Part 17

[Docket No. FWS-HQ-ES-2018-0097; FXES11130900000C2-189-FF09E32000]

RIN 1018-BD60

Endangered and Threatened Wildlife and Plants; Removing the Gray Wolf (Canis lupus) From the List of Endangered and Threatened Wildlife

AGENCY: Fish and Wildlife Service, Interior.

ACTION: Proposed rule; extension of public comment period.

SUMMARY: We, the U.S. Fish and Wildlife Service (Service), recently published a proposal to remove the gray wolf from the List of Endangered and Threatened Wildlife, and we announced the opening of a 60-day public comment period on the proposed action, ending May 14, 2019. We now extend the public comment period 60 days to allow all interested parties additional time to comment on the proposed rule. Comments previously submitted need not be resubmitted and will be fully considered in preparation of the final rule. In addition, we will provide public-hearing information through the Federal Register in the near future.

DATES: The public comment period on the proposed rule that published March 15, 2019 at 84 FR 9648, is extended to July 15, 2019.

Written Comments: Please note that comments submitted electronically using the Federal eRulemaking Portal (see ADDRESSES section, below) must be received by 11:59 p.m. Eastern Time on the closing date and comments submitted by U.S. mail must be postmarked by that date to ensure consideration.

ADDRESSES:

Availability of Documents: You may obtain copies of the March 15, 2019, proposed rule and associated documents on the internet at http://www.regulations.gov under Docket No. FWS-HQ-ES-2018-0097.

Written Comments: You may submit written comments by one of the following methods:

(1) Electronically: Go to the Federal eRulemaking Portal: http://www.regulations.gov. Search for FWS-HQ-ES-2018-0097, which is the docket number for this rulemaking. Please ensure you have found the correct document before submitting your comments. If your comments will fit in the provided comment box, please use this feature of http://www.regulations.gov, as it is most compatible with our comment review procedures. If you attach your comments as a separate document, our preferred file format is Microsoft Word. If you attach multiple comments (such as form letters), our preferred format is a spreadsheet in Microsoft Excel.

(2) By hard copy: Submit by U.S. mail or hand-delivery to: Public Comments Processing, Attn: Docket No. FWS-HQ-ES-2018-0097; U.S. Fish & Wildlife Service Headquarters, MS: BPHC, 5275 Leesburg Pike, Falls Church, VA 22041-3803.

We request that you send comments only by the methods described above. We will post all substantive comments we receive on http://www.regulations.gov. This generally means that we will post any personal information you provide us (see Public Comments below for more information).

FOR FURTHER INFORMATION CONTACT: Don Morgan, Chief, Branch of Delisting and Foreign Species, Ecological Services; U.S. Fish and Wildlife Service, Headquarters Office, MS: ES, 5275 Leesburg Pike, Falls Church, VA 22041-3803. Persons who use a telecommunications device for the deaf (TDD) may call the Federal Relay Service at 1-800-877-8339.

SUPPLEMENTARY INFORMATION:

Background

Under the authority of the Endangered Species Act of 1973, as amended (Act; 16 U.S.C. 1531 et seq.), the List of Endangered and Threatened Wildlife (List) in title 50 of the Code of Federal Regulations (50 CFR 17.11(h)) currently includes the gray wolf (Canis lupus). On March 15, 2019, the Service proposed to remove gray wolves in the lower 48 United States and Mexico from the List and opened a 60-day public comment period on the proposed action (84 FR 9648). The Service now extends the comment period as specified above in DATES.

Public Comments

We will accept comments and information during this extended comment period on our proposal to remove the gray wolf (Canis lupus) from the List. We will consider information and recommendations from all interested parties. We intend that any final action resulting from this proposal will be based on the best scientific and commercial data available and will be as accurate and as effective as possible. Our final determination will take into consideration all comments and any additional information we receive during the comment period. Therefore, the final decision may differ from the March 15, 2019, proposed rule, based on our review of all information received during this rulemaking.

If you already submitted comments or information on the March 15, 2019, proposed rule, please do not resubmit them. Any such comments are incorporated as part of the public record of this rulemaking proceeding, and we will fully consider them in the preparation of our final determination.

Our March 15, 2019, proposal replaces our June 13, 2013, proposal to remove gray wolves in the lower 48 United States and Mexico from the List (78 FR 35663). Therefore, we ask any persons or entities who submitted comments on the June 13, 2013, proposal that are relevant to the status of wolves currently listed in the contiguous United States and Mexico as analyzed in the March 15, 2019, proposal to resubmit their comments at this time. Comments must be submitted during the comment period for the March 15, 2019, proposed rule to be considered.

Comments should be as specific as possible. Please include sufficient information with your submission (such as scientific journal articles or other publications) to allow us to verify any scientific or commercial information you assert. Please note that submissions merely stating support for, or opposition to, the action under consideration without providing supporting information, although noted, will not meet the standard of best available scientific and commercial data. Section 4(b)(1)(A) of the Act directs that determinations as to whether any species is threatened or endangered must be made “solely on the basis of the best scientific and commercial data available.”

You may submit your comments and materials by one of the methods listed in ADDRESSES. We request that you send comments only by the methods described in ADDRESSES. You may also provide your comments through verbal testimony during the public hearing, details of which will be announced in an upcoming Federal Register document.

If you submit information via http://www.regulations.gov, your entire submission—including your personal identifying information—will be posted on the website. If your submission is made via a hardcopy that includes personal identifying information, you may request at the top of your document that we withhold this information from public review. However, we cannot guarantee that we will be able to do so. We will post all hardcopy submissions on http://www.regulations.gov.

Comments and materials we receive, as well as supporting documentation we used in preparing this proposed rule, will be available for public inspection on http://www.regulations.gov at Docket No. FWS-HQ-ES-2018-0097, or by appointment, during normal business hours at U.S. Fish and Wildlife Service Headquarters (see FOR FURTHER INFORMATION CONTACT).

Our final determination concerning the proposed action will take into consideration all written comments we receive during the open comment periods, comments received during the public hearing, and comments from peer reviewers. These comments will be included in the public record for this rulemaking, and we will fully consider them in the preparation of our final determination.

Public Hearing

We will hold one or more public hearings during the open comment period. We will provide information on the location, dates, and times of any hearings through publication in the Federal Register in the near future.

Authors

The primary authors of this notice are the Ecological Services staff of the Headquarters Office, U.S. Fish and Wildlife Service.

Authority

The authority for this action is the Endangered Species Act of 1973, as amended (16 U.S.C. 1531 et seq.).

Dated: May 7, 2019.
Margaret E. Everson,
Principal Deputy Director, Exercising the Authority of the Director for the U.S. Fish and Wildlife Service.

[FR Doc. 2019-09857 Filed 5-13-19; 8:45 am]

BILLING CODE 4333-15-P